ENVIRONMENTAL PROTECTION AGENCY

[FRL OP-OFA-079]

Environmental Impact Statements; Notice of Availability

Responsible Agency: Office of Federal Activities, General Information 202-564-5632 or https://www.epa.gov/nepa.

Weekly receipt of Environmental Impact Statements (EIS)

Filed July 17, 2023 10 a.m. EST Through July 24, 2023 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20230089, Draft, FHWA, VA, Bowers Hill Interchange Improvements Study, Comment Period Ends: 09/11/2023, Contact: John Simkins 804-775-3347.

EIS No. 20230090, Draft, USACE, FL, Tampa Harbor Navigation Improvement Study Draft Integrated General Reevaluation Report and Environmental Impact Statement, Comment Period Ends: 09/11/2023, Contact: Graceann Sparkman 904-232-3738.

EIS No. 20230091, Draft, NPS, MI, Isle Royale National Park Wilderness Stewardship Plan, Comment Period Ends: 09/26/2023, Contact: Denice Swanke 906-231-4961.

Dated: July 24, 2023.
Nancy Abrams,
Associate Director, Office of Federal Activities.

[FR Doc. 2023-16024 Filed 7-27-23; 8:45 am]

BILLING CODE 6560-50-P